DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: June 19, 2014, 10:00 a.m.

PLACE: Room 2C, 888 First Street NE., Washington, DC 20426.

STATUS: Open.

MATTERS TO BE CONSIDERED: Agenda

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1006TH—Meeting; Regular Meeting
[June 19, 2014; 10:00 a.m.]
Item No. | Docket No. | Company
Administrative
A-1 | AD02-1-000 | Agency Business Matters.
A-2 | AD02-7-000. | Customer Matters, Reliability, Security and Market Operations.
A-3 | AD14-14-000. | Price Formation in Energy and Ancillary Services. Markets Operated by Regional Transmission. Organizations and Independent System Operators.
Electric
E-1 | OMITTED
E-2 | OMITTED
E-3 | ER13-83-003 | Duke Energy Carolinas, LLC and Duke Energy Progress, Inc.
| ER13-83-004
| ER13-83-005
| ER13-897-001 | Louisville Gas and Electric Company and Kentucky Utilities Company.
| ER13-897-002
| ER13-908-001 | Alabama Power Company.
| ER13-908-002
| ER13-913-001 | Ohio Valley Electric Corporation.
| ER13-913-002
E-4 | ER14-1386-000 | California Independent System Operator Corporation.
E-5 | ER14-1578-000 | PacifiCorp.
E-6 | RM14-14-000 | Refinements to Policies and Procedures for Market-Based Rates for Wholesale Sales of Electric Energy, Capacity and Ancillary Services by Public Utilities.
E-7 | EL11-66-001 | Martha Coakley, Massachusetts Attorney General; Conneticut Public Utilities Regulatory Authority; Massachusetts Department of Public Utilities; New Hampshire Public Utilities Commission; Connecticut Office of Consumer Counsel; Maine Office of the Public Advocate; George Jepsen, Connecticut Attorney General; New Hampshire Office of Consumer Advocate; Rhode Island Division of Public Utilities and Carriers; Vermont Department of Public Service; Massachusetts Municipal Wholesale Electric Company; Associated Industries of Massachusetts; The Energy Consortium; Power Options, Inc.; and the Industrial Energy Consumer Group v. Bangor Hydro-Electric Company; Central Maine Power Company; New England Power Company d/b/a National Grid; New Hampshire Transmission LLC d/b/a NextEra; NSTAR Electric and Gas Corporation; Northeast Utilities Service Company; The United Illuminating Company; Unitil Energy Systems, Inc. and Fitchburg Gas and Electric Light Company; Vermont Transco, LLC.
E-8 | EL13-33-000 | ENE (Environment Northeast), The Greater Boston Real Estate Board, National Consumer Law Center, and NEPOOL Industrial Customer Coalition v. Bangor Hydro-Electric Company, Central Maine Power Company, New England Power Company, New Hampshire Transmission LLC, NSTAR Electric Company, Northeast Utilities Service Company, The United Illuminating Company, Unitil Energy Systems, Inc., Fitchburg Gas and Electric Light Company, and Vermont Transco, LLC.
E-9 | EL12-39-000 | Seminole Electric Cooperative, Inc. and Florida Municipal Power Agency v. Florida Power Corporation.
E-10 | EL13-63-000 | Seminole Electric Cooperative, Inc. and Florida Municipal Power Agency v. Duke Energy Florida, Inc.
| EL12-39-000 | Seminole Electric Cooperative, Inc. and Florida Municipal Power Agency v. Florida Power Corporation.
E-11 | EL12-59-000 | Golden Spread Electric Cooperative, Inc. v. Southwestern Public Service Company.
E-12 | EL13-78-000 | Golden Spread Electric Cooperative, Inc. v. Southwestern Public Service Company.
| EL12-59-000
E-13 | OMITTED
E-14 | OMITTED
E-15 | OMITTED
E-16 | EL13-86-000 | Grand Valley Rural Power Lines, Holy Cross Electric Association, Inc., Intermountain Rural Electric Association, Inc. and Yampa Valley Electric Association, Inc. v. Public Service Company of Colorado.
E-17 | RM14-7-000 | Modeling, Data, and Analysis Reliability Standards.
E-18 | RM14-1-000 | Reliability Standard for Geomagnetic Disturbance Operations.
E-19 | RD14-7-000 | North American Electric Reliability Corporation.
E-20 | ER14-1626-000 | Constellation NewEnergy, Inc.
| ER14-1627-000 | Constellation Energy Commodities Group Maine, LLC.
| ER14-1625-000 | Exelon Generation Company, LLC.
E-21 | ER13-1748-000 | Southwest Power Pool, Inc.
| ER13-1748-001
E-22 | ER12-1179-018 | Southwest Power Pool, Inc.
| ER13-1173-000
E-23 | ER13-2452-001 | California Independent System Operator Corporation.
E-24 | ER08-375-006 | Southern California Edison Company.
E-25 | AC11-46-000 | Ameren Corporation.
E-26 | AC11-46-002 | Ameren Corporation.
| AC11-46-003
Miscellaneous
M-1 | RM13-17-001 | Communication of Operational Information Between Natural Gas Pipelines and Transmission Operators.
Gas
G-1 | RP14-380-000 | National Fuel Gas Supply Corporation and Empire Pipeline, Inc.
G-2 | RP14-453-000 | Enable Gas Transmission, LLC and Enable Mississippi River Transmission, LLC.
Hydro
H-1 | P-12690-008 | Public Utility District No. 1 of Snohomish County, Washington.
| P-12690-007
| EL14-47-000
H-2 | P-2082-058 | PacifiCorp.
H-3 | P-14589-000 | Green Energy Storage Corp.
H-4 | P-12756-004 | BOST3 Hydroelectric LLC.
H-5 | P-12714-004 | H20 Holdings, LLC.
H-6 | P-13579-003 | FFP Qualified Hydro 14, LLC.
| P-14491-001 | Western Minnesota Municipal Power Agency.
H-7 | P-13123-002 | Eagle Crest Energy Company.
Certificates
C-1 | CP13-25-000 | Cameron LNG, LLC.
| CP13-27-000 | Cameron Interstate Pipeline, LLC.
C-2 | CP13-545-001 | Dominion Transmission, Inc. and Tennessee Gas Pipeline Company, L.L.C.
C-3 | CP13-516-000 | EcoEléctrica, L.P.

Issued: June 12, 2014.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2014-14370 Filed 6-16-14; 4:15 pm]

BILLING CODE 6717-01-P